DEPARTMENT OF HEALTH AND HUMAN SERVICES

National Institutes of Health

Center for Scientific Review; Amended Notice of Meeting

Notice is hereby given of a change in the meeting of the Center for Scientific Review Special Emphasis Panel, July 29, 2008, 7 a.m. to July 29, 2008, 7 p.m., National Institutes of Health, 6701 Rockledge Drive, Bethesda, MD, 20892, which was published in the Federal Register on June 9, 2008, 73 FR 32589-32590.

The meeting title has been changed to “EPR Shared Instrumentation Study Section.

The meeting is closed to the public.

Dated: July 3, 2008.
Jennifer Spaeth,
Director, Office of Federal Advisory Committee Policy.

[FR Doc. E8-15821 Filed 7-16-08; 8:45 am]

BILLING CODE 4140-01-M